DEPARTMENT OF HEALTH AND HUMAN SERVICES

National Institutes of Health

National Toxicology Program (NTP); Meeting of the NTP Board of Scientific Counselors Nanotechnology Working Group

AGENCY: National Institute of Environmental Health Sciences (NIEHS), National Institutes of Health (NIH).

ACTION: Meeting announcement.

SUMMARY: The National Toxicology Program (NTP) has established the Nanotechnology Working Group (“the NWG”) to the NTP Board of Scientific Counselors in order to enhance public and stakeholder input into the NTP nanotechnology research program. The NWG is a technical advisory body established to provide a structured and formal mechanism for bringing stakeholders together to learn about NTP nanotechnology research related to public health, address issues related to that research, and promote dissemination of those discussions to other Federal agencies, nanotechnology stakeholders, and the public. The first meeting of the NWG is scheduled for June 24, 2005, at the NIEHS, 111 T.W. Alexander Drive, Research Triangle Park, NC 27709.

DATES: The working group meeting will be held June 24, 2005. The meeting will begin at 12:30 p.m. and end at approximately 4:30 p.m. Individuals who plan to attend are encouraged to register by June 17, 2005, in order to ensure access to the NIEHS campus (see FOR FURTHER INFORMATION CONTACT below). Persons needing special assistance, such as sign language interpretation or other reasonable accommodation, in order to attend are asked to notify the NTP at least 7 business days in advance of the meeting.

ADDRESSES: The meeting will be held in the Rodbell Auditorium, Rall Building at the NIEHS, 111 T.W. Alexander Drive, Research Triangle Park, NC 27709. A copy of the agenda, working group roster, and any additional information, when available, will be posted on the NTP Web site (http://ntp.niehs.nih.gov/ select “Advisory Board & Committees”) or may be requested in hardcopy from the NWG Executive Secretary (see FOR FURTHER INFORMATION CONTACT).

FOR FURTHER INFORMATION CONTACT: Correspondence should be submitted to Dr. Kristina Thayer (NIEHS, P.O. Box 12233, MD A3-01, Research Triangle Park, NC 27709; telephone: 919-541-5021, fax 919-541-0295; or e-mail: thayer@niehs.nih.gov).

SUPPLEMENTARY INFORMATION:

Background

In recent years, nanotechnology has become an increasing focus of U.S. and global research and development efforts. As with many technological advances, novel materials are created, and as a result, the potential exists for new and unanticipated human exposures for which the impact on human health is unknown. The NTP is developing a broad-based research program to address potential human health hazards associated with the manufacture and use of nanoscale materials. This research program will include studies of nanoscale materials that apply existing and novel toxicological methods to assess potential health effects associated with exposure to these materials. In order to enhance public and stakeholder input into this program, the NTP has established the Nanotechnology Working Group to provide advice to the NTP Board of Scientific Counselors on NTP nanotechnology research. Additional information on the NWG, including charge and roster, is available at the NTP Web site (http://ntp.niehs.nih.gov/ select “Advisory Board & Committees”).

Preliminary Agenda

NTP Board of Scientific Councelors Nanotechnology Working Group (NWG); National Institute of Environmental Health Sciences, Rodbell Auditorium B, Rall Building, 111 T. W. Alexander Drive, Research Triangle Park, NC 27709. (A photo ID is required to access the NIEHS campus.)

12:30 p.m.:

• Call to Order and Introductions.

• Welcome and Remarks from the National Toxicology Program (NTP).

• Structure and Goals of the NWG.

• Overview of the National Nanotechnology Initiative (NNI).

• U.S Federal Agency Efforts in Nanotechnology.

○ National Toxicology Program.

○ National Institute of Environmental Health Sciences.

○ National Institute for Occupational Safety and Health.

○ Food and Drug Administration.

○ Environmental Protection Agency.

• Public Comment.

• General Discussion.

Attendance and Registration

The meeting is scheduled for June 24, 2005, from 12:30 p.m. to adjournment (approximately 4:30 p.m.) and is open to the public with attendance limited only by the space available. Please note that a photo ID is required to access the NIEHS campus. The NTP is making plans to videocast the meeting through the Internet at http://www.niehs.nih.gov/external/video.htm.

Request for Comments

Public input at this meeting is invited. Each organization is allowed one time slot per agenda topic. At least 7 minutes will be allotted to each speaker, and if time permits, may be extended to 10 minutes. Registration for oral comments will also be available on-site, although time allowed for presentation by on-site registrants may be less than that for pre-registered speakers and will be determined by the number of persons who register at the meeting.

Persons registering to make oral comments are asked, if possible, to send a copy of their statement to the NWG Executive Secretary (see FOR FURTHER INFORMATION CONTACT above) by June 17, 2005, to enable review by the NTP Board and NIEHS/NTP staff prior to the meeting. Written statements can supplement and may expand the oral presentation. If registering on-site and reading from written text, please bring 40 copies of the statement for distribution to the NWG and NIEHS/NTP staff and to supplement the record. Written comments received in response to this notice will be posted on the NTP Web site. Persons submitting written comments should include their name, affiliation, mailing address, phone, fax, e-mail, and sponsoring organization (if any) with the document.

Dated: May 23, 2005.
Samuel H. Wilson,
Deputy Director, National Institute of Environmental Health Sciences.

[FR Doc. 05-11111 Filed 6-2-05; 8:45 am]

BILLING CODE 4140-01-P